DEPARTMENT OF ENERGY

Bonneville Power Administration

Tanner Tap to Snoqualmie-Lake Tradition No.1 115-kV Transmission Line

AGENCY: Bonneville Power Administration (BPA), Department of Energy (DOE).

ACTION: Notice of Floodplain and Wetlands Involvement.

SUMMARY: This notice announces BPA's proposal to site a new 115,000-volt (115-kV) transmission line across a number of wetlands and a floodplain. The line will be constructed in central King County, Washington, to provide Tanner Electric Cooperative (Tanner), one of BPA's full requirements customers, a new point of delivery at Tanner's proposed substation in the City of North Bend. The action is necessary to allow Tanner to meet their existing and future loads in the North Bend area. The effect on the public will be the construction and operation of a new 4.5-mile-long transmission line where no transmission line has existed before. In accordance with DOE regulations for compliance with floodplain and wetlands environmental review requirements, BPA will prepare a floodplain and wetlands assessment and would perform this proposed action in a manner so as to avoid or minimize potential harm to or within the affected floodplain and wetlands. After BPA issues the assessment, a floodplain statement of findings will be published in the Federal Register.

DATES: Comments are due to the address below no later than March 10, 2000.

ADDRESSES: Submit comments to Communications, Bonneville Power Administration—KC-7, P.O. Box 12999, Portland, Oregon, 97212. Internet address: comment@bpa.gov.

FOR FURTHER INFORMATION CONTACT: Gene Lynard, Environmental Project Lead , KECN-4, Bonneville Power Administration, P.O. Box 3621, Portland, Oregon, 97208-3621, phone number 503-230-3790, fax number 503-230-5699.

SUPPLEMENTARY INFORMATION: Wetlands in the project area are primarily associated with the floodplains of the Snoqualmie River and its tributaries. The proposed transmission line route would cross a number of small wetlands, which support no unique flora or fauna. Most wetlands crossed are narrow and would be spanned where practical. Impacts would be primarily related to the removal of trees, which would threaten transmission line safety from wetlands and associated buffers. The largest wetland area crossed is located about one mile northwest of the City of North Bend along North Bend Way in Section 5, 23N, 8E. This is a large diverse wetland associated with Kimball Creek. The proposed transmission line alignment bisects this Pulustrian scrub/shrub and forested wetland for a distance of about 0.8 kilometers (0.5 miles). The project would be located within the North Bend Way right-of-way (at this location) and no structures would be placed within the wetland; however, the transmission line would be located within the 50-foot buffer of this sensitive area.

Wetlands could be affected if construction activities alter wetland vegetation, soils or hydrology. Construction and clearing activities and any necessary road improvements could also potentially affect sediment transport, damage vegetation and wildlife habitat, and reduce a wetland's ability to provide for flood and sediment control.

Maps and further information are available from BPA at the address above.

Issued in Portland, Oregon, on February 15, 2000.
James M. Kehoe,
Manager, Policy and Strategic Planning.

[FR Doc. 00-4344 Filed 2-23-00; 8:45 am]

BILLING CODE 6450-01-P